DEPARTMENT OF THE INTERIOR

Bureau of Land Management

[ES-956-07-1910-4482; Group No. 29, Illinois]

Eastern States: Filing of Plat of Survey

AGENCY: Bureau of Land Management, Interior.

ACTION: Notice of filing of plat of survey; Minnesota.

SUMMARY: The Bureau of Land Management (BLM) will file the plat of survey of the lands described below in the BLM-Eastern States, Springfield, Virginia, 30 calendar days from the date of publication in the Federal Register.

FOR FURTHER INFORMATION CONTACT: Bureau of Land Management, 7450 Boston Boulevard, Springfield, Virginia 22153. Attn: Cadastral Survey.

SUPPLEMENTARY INFORMATION: This survey was requested by the U.S. Army Corps of Engineers.

The lands we surveyed are:

Third Principal Meridian, Illinois

T. 3 N., R. 10 W.

The plat of survey represents the corrective survey of a portion of the Lock and Dam No. 27 Acquisition Boundary in Township 3 North, Range 10 West of the Third Principal Meridian, The State of Illinois, and was accepted December 27, 2007. This corrective survey placed Angle Points Nos. 70 and 71 in their correct positions.

We will place a copy of the plat we described in the open files. It will be available to the public as a matter of information.

If BLM receives a protest against this survey, as shown on the plat, prior to the date of the official filing, we will stay the filing pending our consideration of the protest.

We will not officially file the plat until the day after we have accepted or dismissed all protests and they have become final, including decisions on appeals.

Dated: January 16, 2008.
Joseph W. Beaudin,
Acting Chief Cadastral Surveyor.

[FR Doc. E8-1176 Filed 1-23-08; 8:45 am]

BILLING CODE 4310-GJ-P